DEPARTMENT OF TRANSPORTATION

Federal Aviation Administration

14 CFR Part 39

[Docket No. FAA-2006-24255; Directorate Identifier 2006-CE-25-AD]

RIN 2120-AA64

Airworthiness Directives; DG Flugzeugbau GmbH Model DG-1000S Sailplanes

AGENCY: Federal Aviation Administration (FAA), Department of Transportation (DOT).

ACTION: Notice of proposed rulemaking (NPRM).

SUMMARY: We propose to adopt a new airworthiness directive (AD) for all DG Flugzeugbau GmbH Model DG-1000S sailplanes. This proposed AD would require you to modify the elevator control at the stabilizer assembly, replace a placard on the fin, and incorporate changes in the FAA-approved sailplane flight manual. This proposed AD results from mandatory continuing airworthiness information (MCAI) issued by the airworthiness authority for Germany. We are proposing this AD to prevent the rigging of the horizontal stabilizer without properly connecting the elevator, which, if not prevented, could lead to an inoperative elevator.

DATES: We must receive comments on this proposed AD by June 12, 2006.

ADDRESSES: Use one of the following addresses to comment on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

For service information identified in this proposed AD, contact DG-Flugzeugbau, Postbox 41 20, D-76625 Bruchsal, Federal Republic of Germany; telephone: ++49 7257 890; facsimile: ++45 7257 8922; e-mail: www.dg-flugzeugbau.de.

FOR FURTHER INFORMATION CONTACT: Gregory Davison, Glider Project Manager, ACE-112, Small Airplane Directorate, 901 Locust, Room 301, Kansas City, Missouri 64106; telephone: (816) 329-4130; facsimile: (816) 329-4090.

SUPPLEMENTARY INFORMATION:

Comments Invited

We invite you to send any written relevant data, views, or arguments regarding this proposed AD. Send your comments to an address listed under the ADDRESSES section. Include the docket number, “FAA-2006-24255; Directorate Identifier 2006-CE-25-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

The Luftfahrt-Bundesamt (LBA), which is the airworthiness authority for Germany, notified FAA that an unsafe condition may exist on all DG Flugzeugbau GmbH Model DG-1000S sailplanes. The LBA reports that a user succeeded in assembling the horizontal stabilizer without connecting the elevator.

The design of this assembly should be such that this is not possible. DG Flugzeugbau has developed a modification to prevent such assembly.

Such assembly, if not prevented, could result in an inoperative elevator.

Relevant Service Information

We have reviewed DG Flugzeugbau GmbH Technical Note No. 413/3, dated April 28, 2004.

The service information describes procedures for:

• Modifying the elevator control at the stabilizer assembly;

• Replacing the placard on the fin; and

• Incorporating changes in the FAA-approved sailplane flight manual (SFM).

Foreign Airworthiness Authority Information

The LBA classified this service bulletin as mandatory and issued German AD Number D-2004-300, dated June 15, 2004, to ensure the continued airworthiness of these sailplanes in Germany.

These DG Flugzeugbau GmbH Model DG-1000S sailplanes are manufactured in Germany and are type-certificated for operation in the United States under the provisions of section 21.29 of the Federal Aviation Regulations (14 CFR 21.29) and the applicable bilateral airworthiness agreement.

Under this bilateral airworthiness agreement, the LBA has kept us informed of the situation described above.

FAA's Determination and Requirements of the Proposed AD

We are proposing this AD because we have examined the LBA's findings, evaluated all information and determined the unsafe condition described previously is likely to exist or develop on other products of the same type design that are certificated for operation in the United States.

This proposed AD would require you to modify the elevator control at the stabilizer assembly and incorporate changes in the FAA-approved sailplane flight manual.

Costs of Compliance

We estimate that this proposed AD would affect 8 sailplanes in the U.S. registry.

We estimate the following costs to do the proposed modification and replacement of the placard on the fin:

Labor cost | Parts cost | Total cost per sailplane | Total cost on U.S. operators
2 workhours × $80 per hour = $160 | $60 | $220 | 8 × $220 = $1,760.

We estimate the following costs to do the proposed incorporation of changes in the FAA-approved SFM:

Labor cost | Parts cost | Total cost per sailplane | Total cost on U.S. operators
1 workhour × $80 per hour = $80 | ¹ N/A | $80 | 8 × $80 = $640.
¹ Not applicable.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

DG Flugzeugbau GmbH: Docket No. FAA-2006-24255; Directorate Identifier 2006-CE-25-AD.

Comments Due Date

(a) We must receive comments on this proposed airworthiness directive (AD) action by June 12, 2006.

Affected ADs

(b) None.

Applicability

(c) This AD affects all Model DG-1000S sailplanes, all serial numbers, that are certificated in any category.

Unsafe Condition

(d) This AD results from mandatory continuing airworthiness information (MCAI) issued by the airworthiness authority for Germany. We are issuing this AD to prevent the rigging of the horizontal stabilizer without properly connecting the elevator, which, if not prevented, could lead to an inoperative elevator.

Compliance

(e) To address this problem, you must do the following:

Actions | Compliance | Procedures
(1) Modify the elevator control at the stabilizer assembly as follows: (i) Replace the rod-end 5St94 (or FAA-approved equivalent part) with a rod-end 5St94 modified to part number 10St97/1 (or an FAA-approved equivalent part); (ii) Install deflector part number 10St97/2 (or an FAA-approved equivalent part); and (iii) Replace the placard on the fin | Within the next 25 hours time-in-service (TIS) after the effective date of this AD | Follow DG Flugzeugbau GmbH Technical Note No. 413/3, dated April 28, 2004.
(2) The parts that this AD requires to be replaced as well as those to be installed could have replacement parts approved under 14 CFR 21.303. Any such parts approved per this regulation and installed are subject to thee actions of this AD. In addition, nothing in this AD prevents the installation of such alternatively approved parts provided they meet current airworthiness standards including those actions cited in this AD. | Not Applicable | Not Applicable.
(3) Incorporate changes in the FAA-approved sailplane flight manual, as specified in paragraph 6a) of the Instructions section of DG Flugzeugbau GmbH Technical Note No. 413/3, dated April 28, 2004 | Within the next 25 hours TIS after the effective date of this AD | The owner/operator holding at least a private pilot certificate as authorized by section 43.7 of the Federal Aviation Regulations (14 CFR 43.7) may do the flight manual change requirement of this AD. Make an entry in the aircraft records showing compliance with this portion of the AD following section 43.9 of the Federal Aviation Regulations (14 CFR 43.9).
(4) Do not install any rod end 5St94 (or FAA-approved equivalent part) unless it is modified to DG Flugzeugbau GmbH rod-end part 10St97/1 (or FAA-approved equivalent part). | As of the effective date of this AD. | Not Applicable.

Alternative Methods of Compliance (AMOCS)

(f) The Manager, Standards Office, Small Airplane Directorate, FAA, ATTN: Gregory Davison, Glider Project Manager, ACE-112, Small Airplane Directorate, 901 Locust, Room 301, Kansas City, Missouri 64106; telephone: (816) 329-4130; facsimile: (816) 329-4090, has the authority to approve AMOCs for this AD, if requested using the procedures found in 14 CFR 39.19.

Related Information

(g) German AD Number D-2004-300, dated June 15, 2004, also addresses the subject of this AD. To get copies of the service information referenced in this AD, contact DG-Flugzeugbau, Postbox 41 20, D-76625 Bruchsal, Federal Republic of Germany; telephone: ++49 7257 890; facsimile: ++45 7257 8922; e-mail: www.dg-flugzeugbau.de. To view the AD docket, go to the Docket Management Facility; U.S. Department of Transportation, 400 Seventh Street, SW., Nassif Building, Room PL-401, Washington, DC, or on the Internet at http://dms.dot.gov. The docket number is Docket No. FAA-2006-24255; Directorate Identifier 2006-CE-25-AD.

Issued in Kansas City, Missouri, on May 9, 2006.
David R. Showers,
Acting Manager, Small Airplane Directorate, Aircraft Certification Service.

[FR Doc. E6-7394 Filed 5-15-06; 8:45 am]

BILLING CODE 4910-13-P